GENERAL SERVICES ADMINISTRATION

[Notice CIB-2011-1; Docket-2011-0006; Sequence 8]

Privacy Act of 1974; Notice of New System of Records

AGENCY: General Services Administration.

ACTION: New notice.

SUMMARY: GSA proposes to establish a new system of records subject to the Privacy Act of 1974, as amended, 5 U.S.C. 552a.

DATES: Effective May 16, 2011.

FOR FURTHER INFORMATION CONTACT: Call or e-mail the GSA Privacy Act Officer: telephone 202-208-1317; e-mail gsa.privacyact@gsa.gov.

ADDRESSES: GSA Privacy Act Officer (CIB), General Services Administration, 1275 First Street, NE., Washington, DC 20417.

SUPPLEMENTARY INFORMATION: GSA proposes to establish a new system of records subject to the Privacy Act of 1974, 5 U.S.C. 552a. The system will provide for the collection of information to track, manage, and process claims, protests, administrative actions, and litigation cases in the Office of General Counsel.

Dated: April 5, 2011.
Cheryl M. Paige,
Director, Office of Information Management.

SYSTEM NAME:

GSA/OGC-1 (Office of General Counsel Cases).

SYSTEM LOCATION:

The system is maintained electronically and in paper form in the Office of the General Counsel (OGC).

CATEGORIES OF INDIVIDUALS COVERED BY THE SYSTEM:

Individuals who are parties to or are otherwise involved in claims, protests, administrative actions or other litigation with GSA. Individuals referenced in potential or actual cases and matters handled by the Office of General Counsel; and attorneys, paralegals, and other employees of the Office of General Counsel directly involved in these cases or matters.

CATEGORIES OF RECORDS IN THE SYSTEM:

The system contains information routinely and necessarily obtained by the Office of General Counsel in the conduct of its official responsibility to represent and advise the Agency. Records in this system pertain to a broad variety of matters handled by the Office of General Counsel including, but not limited to, tort claims, contract disputes, transactional matters, employment matters, and other administrative actions or litigation. Records may include but are not limited to: name, social security number, addresses, phone numbers, e-mail address, birth date, financial information, medical records, or employment records. This system notice covers records not covered by other appropriate system of records notices.

AUTHORITY FOR MAINTENANCE OF THE SYSTEM:

General authority to maintain the system is contained in 5 U.S.C. 301 and 302 and 44 U.S.C. 3101; 5 U.S.C. 1204 and 1221; Part III of Title 5 of the U.S. Code; 40 U.S.C. 501, et seq.; 41 U.S.C. 601, et seq.; E.O. 12979, 4 CFR part 21, and 28 U.S.C. 1491; 28 U.S.C. 2671, et seq.; E.O. 12549, E.O. 12689, and 48 CFR subpart 9.4; Chapter 37 of Title 31 of the U.S. Code; 5 U.S.C. 552; and 5 U.S.C. 552a.

PURPOSE:

Records are maintained by the Office of General Counsel for the purpose of providing representational and advisory legal services to the agency.

ROUTINE USES OF THE SYSTEM RECORDS, INCLUDING CATEGORIES OF USERS AND THEIR PURPOSES FOR USING THE SYSTEM:

In addition to the purpose for this system of records, information from this system also may be disclosed as a routine use:

a. In any criminal, civil or administrative legal proceeding, where pertinent, to which GSA, a GSA employee, or the United States or other entity of the United States Government is a party before a court or administrative body.

b. To a Federal, State, local, or foreign agency responsible for investigating, prosecuting, enforcing, or carrying out a statute, rule, regulation, or order when GSA becomes aware of a violation or potential violation of civil or criminal law or regulation; or to an agency, individual or organization, if there is reason to believe that such agency, individual or organization possesses information or is responsible for acquiring information relating to the investigation, trial or hearing, and the dissemination is reasonably necessary to elicit such information or to obtain the cooperation of a witness or an informant.

c. To an appeal, grievance, hearing, or complaints examiner; an equal employment opportunity investigator, arbitrator, or mediator; and/or an exclusive representative or other person authorized to investigate or settle a grievance, complaint, or appeal filed by an individual who is the subject of the record.

d. To the Office of Personnel Management (OPM), the Office of Management and Budget (OMB), and the Government Accountability Office (GAO) in accordance with their responsibilities for evaluating Federal programs.

e. To a Member of Congress or his or her staff on behalf of and at the request of the individual who is the subject of the record.

f. To an expert, consultant, or contractor of GSA in the performance of a Federal duty related to the contract or appointment to which the information is relevant.

g. To the National Archives and Records Administration (NARA) for records management purposes.

h. To appropriate agencies, entities, and persons when (1) the Agency suspects or has confirmed that the security or confidentiality of information in the system of records has been compromised, (2) the Agency has determined that as a result of the suspected or confirmed compromise there is a risk of harm to economic or property interests, identity theft or fraud, or harm to the security or integrity of this system or other systems or programs (whether maintained by GSA or another agency or entity) that rely upon the compromised information, and (3) the disclosure made to such agencies, entities, and persons is reasonably necessary to assist in connection with GSA's efforts to respond to the suspected or confirmed compromise and prevent, minimize or remedy such harm.

POLICIES AND PRACTICES FOR STORING, RETRIEVING, ACCESSING, AND RETAINING, AND DISPOSING OF SYSTEM RECORDS:

STORAGE:

Records are maintained in paper and/or electronic form in the Office of General Counsel.

RETRIEVABILITY:

Records may be retrieved based on any information captured, including but not limited to: name, case name, and social security number.

SAFEGUARDS:

Access is limited to authorized individuals with passwords or keys. Electronic files are maintained behind a GSA firewall certified by the National Computer Security Association, and paper files are stored in locked rooms or filing cabinets.

RETENTION AND DISPOSAL:

System records are retained and disposed of according to GSA records maintenance and disposition schedules and the requirements of the National Archives and Records Administration.

SYSTEM MANAGER AND ADDRESS:

Office of General Counsel, General Services Administration, 1275 First St., NE., Washington, DC 20417. OGC may also be contacted via telephone at (202) 501-2200.

NOTIFICATION PROCEDURE:

Individuals wishing to inquire if the system contains information about them should contact the system manager at the above address.

RECORD ACCESS PROCEDURES:

Individuals wishing to access their own records should contact the system manager at the address above.

CONTESTING RECORD PROCEDURE:

Individuals wishing to amend their records should contact the system manager at the address above. Applicable regulations are located at 41 CFR 105-64.

RECORD SOURCE CATEGORIES:

The sources for information in the system are data from other systems, information submitted by individuals or their representatives, information gathered from public sources, and information from other entities or individuals involved in the cases or matters.

[FR Doc. 2011-9022 Filed 4-13-11; 8:45 am]

BILLING CODE 6820-34-P